DEPARTMENT OF DEFENSE

Office of the Secretary

32 CFR Parts 71, 105, and 243

Removal of Obsolete Regulations

AGENCY: Department of Defense.

ACTION: Final rule.

SUMMARY: The Department of Defense is removing several CFR parts from Chapter I, Office of the Secretary of Defense. This administrative action removes obsolete information from the Code of Federal Regulations and notifies readers of the availability of the current DoD documents that contain the information being removed.

DATES: This rule is effective August 23, 2006.

FOR FURTHER INFORMATION CONTACT: L. Bynum 703-696-4970.

SUPPLEMENTARY INFORMATION: Each part has been removed to correspond with the cancellation of the DoD Directive for which the part was based. The chart below identifies the part number and it's companion Directive. All three DoD Directives were canceled by a Director of Administration and Management memorandum dated August 8, 2006.

Part No. | Title | DoD directive No.
71 | Eligibility Requirements for Education of Minor Dependents in Overseas Areas | 1342.13
105 | Employment and Volunteer Work of Spouses of Military Personnel | 1400.33
243 | Intergovernmental Coordination of DoD Federal Development Programs and Activities | 4165.61

List of Subjects

32 CFR Part 71

Elementary and secondary education; Military personnel; Panama Canal.

32 CFR Part 105

Military personnel.

32 CFR Part 243

Intergovernmental relations.

PARTS 71, 105, and 243—[REMOVED]

Accordingly, by the authority of 10 U.S.C. 301, 32 CFR parts 71, 105, and 243 are removed.

August 14, 2006.
L.M. Bynum,
Alternate OSD Federal Register Liaison Officer, Department of Defense.

[FR Doc. 06-7010 Filed 8-22-06; 8:45 am]

BILLING CODE 5001-06-M